DEPARTMENT OF TRANSPORTATION

Federal Aviation Administration

RTCA, Inc. Special Committee 198; Next Generation Communications (NEXCOM)

Pursuant to section 10(a)(2) of the Federal Advisory Committee Act (Pub. L. 92-463, 5 U.S.C., Appendix 2), notice is hereby given for an RTCA NEXCOM Special Committee 198 meeting to be held February 22-23, 2001, starting at 9:00 a.m. The meeting will be held at the RTCA Inc., 1140 Connecticut Ave, NW, Suite 1020, Washington, DC, 20536.

At the request of the Federal Aviation Administration, RTCA established a new Special Committee (SC-198) to develop recommendations for the Next Generation Communications (NEXCOM) program. The FAA will implement an integrated system for digital air/ground voice and data communications in the National Airspace System. Special Committee 198 will undertake a multiphase work program that will initially focus on operational considerations and identify, then characterize, basic operational issues. this results of the first phase effort will be published in a Principles of Operation document as well as a report on responses to recommendation of the RTCA Chairman's Committee on NEXCOM. In subsequent phases, Special Committee 198 will address detailed demonstration and transition planning.

The agenda will include: (1) Welcome and Introductory Remarks; (2) Review Terms of Reference, discuss multi-phase work program; (3) Organize work groups, determine leadership, establish interim milestones to deliver two products for Phase 1: (a) Report on Responses to Recommendations to the RTCA Chairman's Committee on NEXCOM (Delivery: August 2001); (b) RTCA DO NEXCOM Principles (Delivery: September 2001); (4) Working Group meetings. Plenary Session: (5) Review Work Group reports; (6) Review Proposed schedule for subsequent meetings to include Plenary meetings in February, April, June, and August, as well as Plenary in September 2001 to approve phase 1 documents; (c) Plenary in November 2001 to review other committee work; (d) and Editorial meetings; (7) Other Business; (8) Date and Location of Next Meting; (9) Closing.

Attendance is open to the interested public but limited to space availability. With the approval of the Co-chairmen, members of the public may present oral statements at the meeting. Persons wishing to present statements or obtain information should contact the RTCA, Inc., at (202) 833-9339 (phone), (202) 833-9434 (facsimile).

Issued in Washington, DC on February 1, 2001.
Janice L. Peters,
Designated Official.

[FR Doc. 01-3310 Filed 2-7-01; 8:45 am]

BILLING CODE 4910-13-M